ENVIRONMENTAL PROTECTION AGENCY

[FRL-9920-22-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1363.23; Toxic Chemical Release Reporting; 40 CFR part 372; was approved with change on 11/24/2014; OMB Number 2025-0009; expires on 11/30/2017.

EPA ICR Number 1655.09; Regulation of Fuels and Fuel Additives: Detergent Gasoline (Renewal); 40 CFR part 80 subpart G; was approved without change on 11/17/2014; OMB Number 2060-0275; expires on 11/30/2017.

EPA ICR Number 2434.23; Generic Clearance for the Collection of Qualitative Feedback on Agency Service Delivery (Renewal); was approved without change on 11/06/2014; OMB Number 2010-0042; expires on 11/30/2017.

EPA ICR Number 0220.12; Clean Water Act Section 404 State-Assumed Programs (Renewal); 40 CFR part 233; 33 CFR part 325; was approved without change on 11/03/2014; OMB Number 2040-0168; expires on 11/30/2017.

Comment Filed

EPA ICR Number 2449.01; Water Quality Standards Regulatory Clarifications (Proposed Rule); 40 CFR part 131; OMB filed comment on 11/14/2014.

Courtney Kerwin,
Acting Director, Collections Strategies Division.

[FR Doc. 2015-01653 Filed 1-28-15; 8:45 am]

BILLING CODE 6560-50-P